DEPARTMENT OF DEFENSE

Office of the Secretary

32 CFR Chapters I, V, VI, and VII

[Docket ID: DOD-2017-OS-0059]

DoD Regulatory Reform Task Force, Review of Existing DoD Regulations

AGENCY: Department of Defense.

ACTION: Request for comment.

SUMMARY: In accordance with Executive Order 13777, “Enforcing the Regulatory Reform Agenda,” the primary DoD Regulatory Reform Task Force is seeking input on existing DoD regulations that may be appropriate for repeal, replacement, or modification. See the SUPPLEMENTARY INFORMATION section in this notice for additional guidance.

DATES: Interested parties should submit written comments to the address shown in this document on or before January 22, 2018, to be considered.

ADDRESSES: Submit comments identified by “DOD-2017-OS-0059” using any of the following methods:

• Regulations.gov: http://www.regulations.gov. Submit comments via the Federal eRulemaking portal by entering “DOD-2017-OS-0059” under the heading “Enter keyword or ID” and selecting “Search.” Select the link “Submit a Comment” that corresponds with “DOD-2017-OS-0059.” Follow the instructions provided at the “Submit a Comment” screen.

• Mail: Department of Defense, Office of the Deputy Chief Management Officer, Directorate of Oversight and Compliance, 4800 Mark Center Drive, Mailbox #24, Suite 08D09B, Alexandria, VA 22350-1700.

Comments received generally will be posted without change to http://www.regulations.gov, including any personal information provided. To confirm receipt of your comment(s), please check www.regulations.gov, approximately three days after submission to verify posting (allow 30 days for posting of comments submitted by mail).

FOR FURTHER INFORMATION CONTACT: Ms. Patricia Toppings, telephone 571-372-0485; or Ms. Morgan Park, telephone 571-372-0489.

SUPPLEMENTARY INFORMATION: On February 24, 2017, the President signed Executive Order (E.O.) 13777, “Enforcing the Regulatory Reform Agenda,” which established a Federal policy “to alleviate unnecessary regulatory burdens” on the American people.

Section 3(a) of the E.O. directs Federal agencies to establish a Regulatory Reform Task Force (Task Force). One of the duties of the Task Force is to evaluate existing regulations and “make recommendations to the agency head regarding their repeal, replacement, or modification.” The E.O. further asks that each Task Force “attempt to identify regulations that:

(i) Eliminate jobs, or inhibit job creation; (ii) are outdated, unnecessary, or ineffective; (iii) impose costs that exceed benefits; (iv) create a serious inconsistency or otherwise interfere with regulatory reform initiatives and policies; (v) are inconsistent with the requirements of section 515 of the Treasury and General Government Appropriation Act, 2001 (44 U.S.C. 3516 note), or the guidance issued pursuant to that provision in particular those regulations that rely in whole or in part on data, information, or methods that are not publicly available or that are insufficiently transparent to meet the standard of reproducibility; or (vi) derive from or implement Executive Orders or other Presidential directives that have been subsequently rescinded or substantially modified.”

Section 3(e) of the E.O. 13777 calls on the Task Force to “seek input and other assistance, as permitted by law, from entities significantly affected by Federal regulations, including State, local, and tribal governments, small businesses, consumers, non-governmental organizations, trade associations” on regulations that meet some or all of the criteria as described in this document. Through this request for comments, DoD is soliciting such input from the public to inform evaluation of its existing regulations by the primary DoD Regulatory Reform Task Force. Please do not provide comments in response to this document on the Defense Federal Acquisition Regulation Supplement, the Army Corps of Engineers regulations, or the Defense Health Agency TRICARE regulation as separate documents have been published to solicit comments on the regulations being reviewed by the DoD Regulatory Reform Task Force Subgroups. Although DoD will not respond to each individual comment, DoD may follow-up with respondents to clarify comments. DoD values public feedback and will consider all input that it receives.

Dated: October 17, 2017.
Aaron Siegel,
Alternate OSD Federal Register Liaison Officer, Department of Defense.

[FR Doc. 2017-22878 Filed 10-20-17; 8:45 am]

BILLING CODE 5001-06-P